DEPARTMENT OF COMMERCE

International Trade Administration

SABIT Alumni Questionnaire

ACTION: Proposed information collection; Comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (2)(A)).

DATES: Written comments must be submitted on or before October 14, 2003.

ADDRESSES: Direct all written comments to Diana Hynek, Departmental Paperwork Clearance Officer, Department of Commerce, Room 6625, 14th & Constitution Avenue, NW., Washington, DC 20230; Phone number: (202) 482-0266; E-mail: dHynek@doc.gov.

FOR FURTHER INFORMATION CONTACT: Request for additional information or copies of the alumni questionnaire should be directed to: Erin Schumacher, SABIT, 1099 14th Street, Suite 4100W, Washington, DC 20005; Phone number: (202) 482-0073; E-mail: Erin_Schumacher@ita.doc.gov.

SUPPLEMENTARY INFORMATION:

I. Abstract

The Department of Commerce, International Trade Administration, SABIT Office supports technical assistance and training for professionals from Eurasia, while promoting information exchange and U.S.-Eurasian partnerships.

Since inception SABIT has trained over 2500 professionals from Eurasia. The purpose of this questionnaire is to assess the affect that the SABIT Program has had on its alumni, in order to make improvements to the program and report results.

II. Method of Collection

SABIT will outsource the process of contacting SABIT Program alumni. The selected contractor will use the submitted questionnaire for collecting the appropriate information, via phone, email, and in person.

III. Data

OMB Number: 0625-XXXX.

Form Number: ITA-XXXX.

Type of Review: Regular Submission.

Affected Public: Former participants of the SABIT Grant and Group Programs.

Estimated Number of Respondents: 1048.

Estimated Time Per Response: 1 hour.

Estimated Total Annual Burden Hours: 1048 hours (including preparation time and wrap-up).

Estimated Total Annual Costs: $0.

IV. Request for Comments

Comments are invited on (a) whether the proposed collection of information is necessary for the proper performance of the functions of the agency, including whether the information shall have the practical utility; (b) the accuracy of the agency's estimate of the burden (including the hours and costs) of the proposed collection of information; (c) ways to enhance the quality, utility and clarity of the information to be collected; and (d) ways to minimize the burden of the collection of information on respondents, including through the use of automated collection techniques of forms of information technology.

Comments submitted in response to this notice will be summarized and/or included in the request for OMB approval of this information collection; they also will become a matter of public record.

Dated: August 8, 2002.
Madeleine Clayton,
Management Analyst, Office of the Chief Information Officer.

[FR Doc. 03-20612 Filed 8-12-03; 8:45 am]

BILLING CODE 3510-HE-P